DEPARTMENT OF LABOR

Office of the Secretary

Submission for OMB Review: Comment Request

March 17, 2006.

The Department of Labor (DOL) has submitted the following public information collection requests (ICR) to the Office of Management and Budget (OMB) for review and approval in accordance with the Paperwork Reduction Act of 1995 (Pub. L. 104-13, 44 U.S.C. chapter 35). A copy of each ICR, with applicable supporting documentation, may be obtained by contacting Darrin King on 202-693-4129 (this is not a toll-free number) or e-mail: king.darrin@dol.gov.

Comments should be sent to Office of Information and Regulatory Affairs, Attn: OMB Desk Officer for the Occupational Safety and Health Administration (OSHA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension of currently approved collection.

Title: Lead in General Industry (29 CFR 1910.1025).

OMB Number: 1218-0092.

Frequency: On occasion; Quarterly; Semi-annually; and Annually.

Type of Response: Recordkeeping and Third party disclosure.

Affected Public: Business or other for-profit; Federal Government; and State, Local, or Tribal Government.

Number of Respondents: 62,357.

Number of Annual Responses: 4,068,503.

Estimated Time per Response: Ranges from 1 minute to notify an employee of their right to seek a second medical opinion to 2 hours for an employee to receive a medical examination.

Total Burden Hours: 1,242,562.

Total Annualized capital/startup costs: $0.

Total Annual Costs (operating/maintaining systems or purchasing services): $139,869,058.

Description: The purpose of 29 CFR 1910.1025 and its information collection requirements is to provide protection for employees from the adverse effects associated with occupational exposure to the carcinogen, lead. Employers must monitor employee exposure to lead, provide medical surveillance, train employees about the hazards of lead, and establish and maintain accurate records of employee exposure to lead. These records are used by employers, employees, physicians, and the Government to ensure that employees are not being harmed by exposure to lead.

Agency: Occupational Safety and Health Administration.

Type of Review: Extension of currently approved collection.

Title: Lead in Construction Standard (29 CFR 1926.62).

OMB Number: 1218-0189.

Frequency: On occasion; Quarterly; Semi-annually; and Annually.

Type of Response: Recordkeeping and Third party disclosure.

Affected Public: Business or other for-profit; Federal Government; and State, Local, or Tribal Government.

Number of Respondents: 147,073.

Number of Annual Responses: 5,782,074.

Estimated Time per Response: Ranges from 1 minute to notify an employee of their right to seek a second medical opinion to 8 hours to develop a written compliance program.

Total Burden Hours: 1,560,717.

Total Annualized capital/startup costs: $0.

Total Annual Costs (operating/maintaining systems or purchasing services): $68,576,673.

Description: 29 CFR 1926.62 requires employers to train employees about the hazards of lead, monitor employee exposure, to provide medical surveillance, and maintain accurate records of employee exposure to lead. These records are used by employers, employees, physicians and the Government to ensure that employees are not harmed by exposure to lead in the workplace.

Ira L. Mills,
Departmental Clearance Officer.

[FR Doc. E6-4271 Filed 3-23-06; 8:45 am]

BILLING CODE 4510-26-P